DEPARTMENT OF VETERANS AFFAIRS

VASRD Forum—Improving VA's Disability Evaluation Criteria for Neurological Conditions and Convulsive Disorders, Organs of Special Sense, Gynecological Conditions and Disorders of the Breast, and Skin

AGENCY: Department of Veterans Affairs.

ACTION: Notice of meeting.

SUMMARY: The Veterans Benefits Administration (VBA) and Veterans Health Administration (VHA) will co-host the Department of Veterans Affairs (VA) Schedule for Rating Disabilities (VASRD) Forum—Improving VA's Disability Evaluation Criteria for the Neurological Conditions and Convulsive Disorders, Organs of Special Sense, Gynecological Conditions and Disorders of the Breast, and Skin. The purpose of this VASRD Improvement Forum is to capture public comment and current medical science information from presentations made by subject matter experts. This Forum is scheduled for January 17-26, 2012. VA plans to use this information to update the sections of VASRD that pertain to the following four body systems: (1) Neurological Conditions and Convulsive Disorders (38 CFR 4.120-4.124a), (2) Organs of Special Sense (38 CFR 4.75-4.79), (3) Gynecological Conditions and Disorders of the Breast (38 CFR 4.116), and (4) The Skin (38 CFR 4.118). Specifically, diagnostic code descriptors and evaluation criteria will be discussed.

DATES: The plenary session on Tuesday, January 17, 2012, from 8 a.m.-4:30 p.m., will cover neurological conditions and convulsive disorders. The plenary session on Thursday, January 19, 2012, from 8 a.m.-4:30 p.m., will cover organs of special sense with emphasis on the eyes. The plenary session on the morning of Tuesday, January 24, 2012, from 8 a.m.-12 p.m., will cover gynecological conditions and disorders of the breast. The plenary session on Wednesday, January 25, 2012, from 8 a.m.-4:30 p.m., will cover skin conditions.

The Neurology Work Group meeting will take place from 9 a.m.-4:30 p.m., on Wednesday, January 18, 2012. The Opthomamology Work Group will meet from 9 a.m.-4:30 p.m. on Friday, January 20, 2012. The Gynecology Work Group will meet from 1 p.m.-4:30 p.m. on Tuesday, January 24, 2012. On Thursday, January 26, 2012, the Skin Conditions Work Group will meet from 9 a.m.-4:30 p.m.

ADDRESSES: All plenary sessions will be held at the VHA New York Harbor Healthcare System, Manhattan Campus, located at 423 East 23rd Street, New York, NY 10010. The Gynecology Work Group will also meet at the Manhattan Campus. The Neurology, Opthomamology and Skin Conditions Work Groups' meetings will occur at the VBA New York Regional Office located at 245 West Houston Street, New York, NY 10014.

Public Comment: Contingent upon available capacity and time, individuals wishing to make oral statements or ask questions will be accommodated on a first-come, first-served basis.

FOR FURTHER INFORMATION CONTACT: Nick Olmos-Lau, M.D., Regulation Staff, Compensation Service, Department of Veterans Affairs, 810 Vermont Avenue NW., Washington, DC 20420. Anyone wishing to attend these meetings or seeking additional information may also contact Dr. Olmos-Lau at (202) 461-9695 or Nick.Olmos-Lau@va.gov.

Dated: December 16, 2011.
John R. Gingrich,
Chief of Staff, Department of Veterans Affairs.

[FR Doc. 2011-32892 Filed 12-22-11; 8:45 am]

BILLING CODE 8320-01-P